DEPARTMENT OF HOMELAND SECURITY

Coast Guard

[Docket No. USCG-2008-0029]

Lower Mississippi River Waterway Safety Advisory Committee; Meeting

AGENCY: Coast Guard, DHS.

ACTION: Notice of meeting.

SUMMARY: The Lower Mississippi River Waterway Safety Advisory Committee will meet in New Orleans to discuss various issues relating to navigational safety on the Lower Mississippi River and related waterways. This meeting will be open to the public.

DATES: The Committee will meet on Thursday, March 20, 2008 from 9 a.m. to 12 p.m. This meeting may close early if all business is finished. Written material and requests to make oral presentations should reach the Coast Guard on or before March 6, 2008. Requests to have a copy of your material distributed to each member of the committee or subcommittee should reach the Coast Guard on or before March 6, 2008.

ADDRESSES: The Committee will meet at the New Orleans Yacht Club, 403 North Roadway, West End, New Orleans, LA 70124. Send written material and requests to make oral presentations to Commanding Officer, Executive Director of Lower Mississippi River Waterway Safety Advisory Committee; USCG Sector New Orleans ATTN: Waterways Management, 1615 Poydras St., New Orleans, LA 70112. This notice is available in our online docket, USCG-2008-0029 at http://www.regulations.gov.

FOR FURTHER INFORMATION CONTACT: LT Tonya Harrington, Assistant to Executive Director of Lower Mississippi River Waterway Safety Advisory Committee; at 504-565-5108.

SUPPLEMENTARY INFORMATION: Notice of this meeting is given under the Federal Advisory Committee Act, 5 U.S.C. App. (Pub. L. 92-463).

Agenda of Meeting

The agenda for the March 20, 2008 Committee meeting is as follows:

(1) Introduction of committee members.

(2) Opening Remarks.

(3) Approval of the December 11, 2007 minutes.

(4) Old Business.

(a) Captain of the Port status report.

(b) VTS update report.

(c) Subcommittee/Working Groups update reports.

(5) New Business.

(6) Adjournment.

Procedural

This meeting is open to the public. Please note that the meeting may close early if all business is finished. At the Chair's discretion, members of the public may make oral presentations during the meeting. If you would like to make an oral presentation at a meeting, please notify the Executive Director no later than March 6, 2008. Written material for distribution at a meeting should reach the Coast Guard no later than March 6, 2008. If you would like a copy of your material distributed to each member of the committee or subcommittee in advance of a meeting, please submit 25 copies to the Executive Director no later than March 6, 2008.

Information on Services for Individuals With Disabilities

For information on facilities or services for individuals with disabilities or to request special assistance at the meeting, contact the Executive Director as soon as possible.

Dated: January 24, 2008.
J.H. Korn,
Captain, U.S. Coast Guard, Commander, 8th Coast Guard Dist., Acting.

[FR Doc. E8-2208 Filed 2-6-08; 8:45 am]

BILLING CODE 4910-15-P